DEPARTMENT OF EDUCATION

[CFDA No. 84.215V—State Educational Agencies]

[CFDA No. 84.215S—Local Educational Agencies]

Office of Educational Research and Improvement; Fund for the Improvement of Education (FIE) Program—Partnerships in Character Education; Notice Inviting Applications for New Awards for Fiscal Year (FY) 2002; Correction

On May 21, 2002, we published in the Federal Register (67 FR 35888-35890) a notice inviting applications for new awards for FY 2002 for the Fund for the Improvement of Education (FIE) Program—Partnerships in Character Education. At 67 FR 35889, third column, seventh bullet, ninth line “84.305G” is corrected to read: “84.215V for State Educational Agencies and 84.215S for Local Educational Agencies”.

FOR FURTHER INFORMATION CONTACT: Beverly A. Farrar, U.S. Department of Education, 555 New Jersey Avenue, NW., room 502J, Washington, DC 20208-5645. FAX: (202) 219-2053 or via the Internet: beverly.a.farrar@ed.gov.

If you use a telecommunications device for the deaf (TDD), you may call the Federal Information Relay Service (FIRS) at 1-800-877-8339.

Individuals with disabilities may obtain this document in an alternative format, e.g., Braille, large print, audiotape, or computer diskette) on request to the program contact person listed under FOR FURTHER INFORMATION CONTACT.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO) toll free, at 1-888-293-6498; or in the Washington, DC, area at (202) 512-1530.

Note: The official version of this document is the document published in the Federal Register. Free Internet access to the official edition of the Federal Register and the Code of Federal Regulations is available on GPO Access at: http://www.access/gpo.gov/nara/index.html.

Program Authority: 20 U.S.C. 7247.

Grover J. Whitehurst,
Assistant Secretary for Educational Research and Improvement.

[FR Doc. 02-13428 Filed 5-29-02; 8:45 am]

BILLING CODE 4000-01-P